DEPARTMENT OF TRANSPORTATION

Federal Aviation Administration

14 CFR Part 71

[Docket No. FAA-2021-1030; Airspace Docket No. 21-ASW-10]

RIN 2120-AA66

Amendment of VOR Federal Airways V-47, V-54, V-69, V-94, V-140, V-278, V-305, and Revocation of V-397; Southeastern United States

AGENCY: Federal Aviation Administration (FAA), DOT.

ACTION: Final rule.

SUMMARY: This action amends VHF Omnidirectional Range (VOR) Federal airways V-47, V-54, V-140, V-278, V-305, and removes V-397, in association with the Graceland VOR Minimum Operational Network (MON) project in the southeastern United States. This action is necessary due to the planned decommissioning of the following ground-based navigation aids: Dyersburg, TN, (DYR) VOR Tactical Air Navigation (VORTAC); Malden, MO, (MAW) VORTAC; Monticello, AR, (MON) VOR/Distance Measuring Equipment (VOR/DME); and the Muscle Shoals, AL, (MSL) VORTAC. VOR Federal airways V-69 and V-94 are removed from this docket action for further planning and coordination.

DATES: Effective date 0901 UTC, July 14, 2022. The Director of the Federal Register approves this incorporation by reference action under 1 CFR part 51, subject to the annual revision of FAA Order 7400.11 and publication of conforming amendments.

ADDRESSES: FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the National Airspace System (NAS).

History

The FAA published a notice of proposed rulemaking for Docket No. FAA-2021-1030 in the Federal Register (86 FR 70776; December 13, 2021), amending seven VOR Federal airways and removing one airway in the southeastern United States. Interested parties were invited to participate in this rulemaking effort by submitting written comments on the proposal. No comments were received.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

Differences From the NPRM

VOR Federal airways V-69 and V-94 are removed from this docket action for further planning and coordination. They will be addressed in a subsequent docket action at a later date.

This rule includes changes to VOR Federal airways V-140, V-278, and V-305 to enable ongoing review by the Department of Defense. So as to avoid the premature removal of route segments, the three airways are being revise to implement only those structural changes necessary due to the scheduled decommissioning of the Dyersburg, TN (DYR) VORTAC; Malden, MO (MAW) VORTAC; Monticello, AR (MON) VOR/DME; and the Muscle Shoals, AL (MSL) VORTAC.

As described below, V-140 is amended to retain the Walnut Ridge, AR (ARG) VORTAC. A separate docket action removed the Kingfisher, OK (IFI) VORTAC from the route. V-278 is amended to retain the segments between the Greenville, MS (GLH) VOR/DME, and the Vulcan, AL (VUZ) VORTAC. V-305 is amended to retain the segments between the Little Rock AR, (LIT) VORTAC and the Walnut Ridge, AR (ARG) VORTAC.

For clarification, V-47, V-54, and V-397 will remain as proposed in the NPRM.

Domestic VOR Federal airways are published in paragraph 6010(a) of FAA Order JO 7400.11F, dated August 10, 2021 and effective September 15, 2021, which is incorporated by reference in 14 CFR 71.1. The VOR Federal airways listed in this document will be subsequently published in, or removed from FAA Order JO 7400.11.

The Rule

The FAA is amending 14 CFR part 71 to amend VOR Federal airways V-47, V-54, V-140, V-278, V-305, and to remove V-397, in support of the FAA's VOR MON program. The route changes are described below.

V-47: V-47 currently consists of two separate parts: From Pine Bluff, AR, to Pocket City, IN; and From Cincinnati, KY, to Flag City, OH. The FAA is removing the segments from Pine Bluff, AR, to Dyersburg, TN. Therefore, the first part of V-47 extends from Cunningham, KY, to Pocket City, IN. The second part of the route extends from Cincinnati, KY to Flag City, OH, as currently charted.

V-54: V-54 currently consists of two separate parts: From Waco, TX, to Cedar Creek, TX; and From Texarkana, AR, to Kinston, NC. The FAA is removing the segments from Marvell, AR, to Charlotte, NC. This change configures V-54 into three parts: From Waco, TX, to Cedar Creek, TX; From Texarkana, AR, to Little Rock, AR; and From Sandhills, NC, to Kinston, NC.

V-140: V-140 currently consists of two parts: From Panhandle, TX, to London, KY; and from Bluefield, WV, to Casanova, VA. The NPRM proposed removing the Walnut Ridge, AR, Dyersburg, TN, and Hazard, KY, navigation aids from V-140. A separate docket action removed the Kingfisher, OK, (IFI) VORTAC from the route. This rule retains the Walnut Ridge VORTAC as part of V-140. As a result, V-140 consists of the following four parts: From Panhandle, TX, to Burns Flat, OK; From Tulsa, OK, to Walnut Ridge, AR; From Nashville, TN, to London, KY; and From Bluefield, WV, to Casanova, VA

V-278: V-278 currently consists of two parts: From Texico, NM, to Plainview, TX; and from Bowie, TX, to Vulcan, AL. The NPRM proposed to remove the segments from Monticello, AR, to Vulcan, AL. This rule removes Monticello, AR from the route, but retains the segments from Greenville, MS to Vulcan, AL. The first part of V-278 (from Texico to Plainview) remains unchanged. The second part of the route is amended as follows: From Bowie, TX; Bonham, TX; Paris, TX; Texarkana, AR; to INT Texarkana 088° and Eldorado, AR 034° radials; From Greenville, MS; Sidon, MS; Bigbee, MS; to Vulcan, AL.

V-305: V-305 currently extends from El Dorado, AR, to Kokomo, IN. The NPRM proposed to remove Walnut Ridge, AR, and Malden, MO, from the route. This rule removes Malden, MO, but retains the segments from Little Rock, AR, to Walnut Ridge, AR. As amended, V-305 consists of two separate parts: From Eldorado, AR, to Walnut Ridge, AR; and From Cunningham, KY, to Kokomo, IN.

V-397: V-397 currently extends from Monroe, LA, to Marvell, AR. The FAA is removing the entire route.

Full route descriptions of the above routes are listed in “The Amendment” section of this rule.

FAA Order 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending five VOR Federal airways, and removing one airway, in the southeastern United States qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5b, which categorically excludes from further environmental impact review “Actions regarding establishment of jet routes and Federal airways (see 14 CFR 71.15, Designation of jet routes and VOR Federal airways) . . .”. As such, this action is not expected to cause any potentially significant environmental impacts. In accordance with FAA Order 1050.1F, paragraph 5-2 regarding Extraordinary Circumstances, the FAA has reviewed this action for factors and circumstances in which a normally categorically excluded action may have a significant environmental impact requiring further analysis. The FAA has determined no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F Airspace Designations and Reporting Points, dated August 10, 2021, and effective September 15, 2021, is amended as follows:

Paragraph 6010(a) Domestic VOR Federal Airways.

* * * * *

V-47 [Amended]

From Cunningham, KY; to Pocket City, IN. From Cincinnati, KY; Rosewood, OH; to Flag City, OH.

* * * * *

V-54 [Amended]

From Waco, TX; to Cedar Creek, TX. From Texarkana, AR; INT Texarkana 052° and Little Rock, AR, 235° radials; to Little Rock. From Sandhills, NC; INT Sandhills 146° and Fayetteville, NC, 267° radials; Fayetteville; to Kinston, NC.

* * * * *

V-140 [Amended]

From Panhandle, TX; to Burns Flat, OK. From Tulsa, OK; Razorback, AR; Harrison, AR; to Walnut Ridge, AR; From Nashville, TN; Livingston, TN; to London, KY. From Bluefield, WV; INT Bluefield 071° and Montebello, VA, 250° radials; Montebello; to Casanova, VA.

* * * * *

V-278 [Amended]

From Texico, NM; to Plainview, TX. From Bowie, TX; Bonham, TX; Paris, TX; Texarkana, AR; to INT Texarkana 088° and El Dorado, AR 034° radials; From Greenville, MS; Sidon, MS; Bigbee. MS; to Vulcan, AL.

* * * * *

V-305 [Amended]

From El Dorado, AR; Little Rock, AR; to Walnut Ridge, AR; From Cunningham, KY; Pocket City, IN; INT Pocket City 046° and Hoosier, IN, 205° radials; Hoosier; INT Hoosier 025° and Brickyard, IN, 185° radials; Brickyard; INT Brickyard 038° and Kokomo, IN, 182° radials; to Kokomo.

* * * * *

V-397 [Removed]

* * * * *

Issued in Washington, DC, on May 3, 2022.
Scott M. Rosenbloom,
Manager, Airspace Rules and Regulations.

[FR Doc. 2022-09923 Filed 5-11-22; 8:45 am]

BILLING CODE 4910-13-P